DEPARTMENT OF TRANSPORTATION

Federal Aviation Administration

Notice of Intent To Request Revision From the Office of Management and Budget of a Currently Approved Information Collection Activity, Request for Comments; Laser Operations in the Navigable Airspace (Advisory Circular (AC), Outdoor Laser Operations)

AGENCY: Federal Aviation Administration (FAA), DOT.

ACTION: Notice and request for comments.

SUMMARY: The FAA invites public comments about our intention to request the Office of Management and Budget (OMB) to approve a current information collection. The FAA requires the information in the interest of aviation safety to protect aircraft operations from the potential hazardous effects of laser emissions.

DATES: Please submit comments by August 28, 2006.

FOR FURTHER INFORMATION CONTACT: Carla Mauney on (202) 267-9895, or by e-mail at: Carla.Mauney@faa.gov.

SUPPLEMENTARY INFORMATION:

Federal Aviation Administration (FAA)

Title: Laser Operations in the Navigable Airspace (Advisory Circular (AC), Outdoor Laser Operations)

Type of Request: Revision of an approved collection.

OMB Control Number: 2120-0662.

Forms(s): There are no FAA forms associated with this collection.

Affected Public: A total of 20 respondents.

Frequency: The information is collected as needed.

Estimated Average Burden per Response: Approximately 11 hours per response.

Estimated Annual Burden Hours: An estimated 2,200 hours annually.

Abstract: The FAA requires the information in the interest of aviation safety to protect aircraft operations from the potential hazardous effects of laser emissions. The information collected is reviewed for its impact on aviation in the vicinity of the laser activity. Upon completion of the review of the information the FAA issues a letter of determination to the respondent in regard to their request.

ADDRESSES: Send comments to the FAA at the following address: Ms. Carla Mauney, Room 1033, Federal Aviation Administration, Information Systems and Technology Services Staff, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on June 23, 2006.
Carla Mauney,
FAA Information Collection Clearance Officer, Information Systems and Technology Services Staff, ABA-20.

[FR Doc. 06-5752 Filed 6-27-06; 8:45 am]

BILLING CODE 4910-13-M